DEPARTMENT OF ENERGY

Federal Energy Regulatory Commission

Notice of Effectiveness of Exempt Wholesale Generator and Foreign Utility Company Status

| Docket Nos.
Liberty 1 Solar, LLC | EG24-198-000
Callisto I Energy Center LLC | EG24-199-000
Goose Prairie Solar LLC | EG24-201-000
SEPV Sierra, LLC | EG24-202-000
SEPV Cuyama, LLC | EG24-203-000
CED Westside Canal Battery Storage, LLC | EG24-204-000
PP Jaguar BESS LLC | EG24-205-000
FRP Gilchrist County Solar, LLC | EG24-206-000
FRP Columbia County Solar, LLC | EG24-207-000
FRP Gadsden County Solar, LLC | EG24-208-000
Calhoun County Solar Project, LLC | EG24-209-000
Millers Branch Solar, LLC | EG24-210-000
FRP Tupelo Solar, LLC | EG24-211-000
Harmony Florida Solar II, LLC | EG24-212-000
Storey Bend Solar, LLC | EG24-213-000
VESI 12 LLC | EG24-214-000
BRP Antlia BESS LLC | EG24-215-000
BRP Carina BESS LLC | EG24-216-000
Chillingham Solar LLC | EG24-217-000
Shamrock Energy Storage, LLC | EG24-218-000
Eoliennes Offshore des Hautes Falaises SAS | FC24-3-000

Take notice that during the month of August 2024, the status of the above-captioned entities as Exempt Wholesale Generators or Foreign Utility Companies became effective by operation of the Commission's regulations. 18 CFR 366.7(a) (2023).

Dated: September 4, 2024.
Debbie-Anne A. Reese,
Acting Secretary.

[FR Doc. 2024-20409 Filed 9-9-24; 8:45 am]

BILLING CODE 6717-01-P